DEPARTMENT OF DEFENSE

Department of the Air Force

32 CFR Part 806b

Air Force Instruction 33-332; Privacy Act of 1974; Implementation

AGENCY: Department of the Air Force.

ACTION: Final rule.

SUMMARY: The Department of the Air Force is deleting an exemption rule for the system of records F031 DOD A, entitled “Joint Personnel Adjudication System (JPAS)”. The system of records was transferred to the Defense Security Service and assigned the identifier V5-05, entitled “Joint Personnel Adjudication System (JPAS)”, which was published in the Federal Register on July 1, 2005 (70 FR 38120). The exemption rule for the system of records also was transferred to the Defense Security Service and incorporated into its existing rules at 32 CFR 321.13(h) which was published in the Federal Register on July 1, 2005 (70 FR 38009). The exemption rule for the system of records is therefore being deleted.

DATES: Effective August 10, 2005.

FOR FURTHER INFORMATION CONTACT: Mrs. Novella Hill at (703) 588-7855.

SUPPLEMENTARY INFORMATION:

Executive Order 12866, “Regulatory Planning and Review”

It has been determined that Privacy Act rules for the Department of Defense are not significant rules. The rules do not (1) Have an annual effect on the economy of $100 million or more or adversely affect in a material way the economy; a sector of the economy; productivity; competition; jobs; the environment; public health or safety; or State, local, or tribal governments or communities; (2) Create a serious inconsistency or otherwise interfere with an action taken or planned by another Agency; (3) Materially alter the budgetary impact of entitlements, grants, user fees, or loan programs, or the rights and obligations of recipients thereof; or (4) Raise novel legal or policy issues arising out of legal mandates, the President's priorities, or the principles set forth in this Executive order.

Public Law 96-354, “Regulatory Flexibility Act” (5 U.S.C. Chapter 6)

It has been determined that Privacy Act rules for the Department of Defense do not have significant economic impact on a substantial number of small entities because they are concerned only with the administration of Privacy Act systems of records within the Department of Defense.

Public Law 96-511, “Paperwork Reduction Act” (44 U.S.C. Chapter 35)

It has been determined that Privacy Act rules for the Department of Defense impose no information requirements beyond the Department of Defense and that the information collected within the Department of Defense is necessary and consistent with 5 U.S.C. 552a, known as the Privacy Act of 1974.

Section 202, Public Law 104-4, “Unfunded Mandates Reform Act”

It has been determined that Privacy Act rulemaking for the Department of Defense does not involve a Federal mandate that may result in the expenditure by State, local and tribal governments, in the aggregate, or by the private sector, of $100 million or more and that such rulemaking will not significantly or uniquely affect small governments.

Executive Order 13132, “Federalism”

It has been determined that Privacy Act rules for the Department of Defense do not have federalism implications. The rules do not have substantial direct effects on the States, on the relationship between the National Government and the States, or on the distribution of power and responsibilities among the various levels of government.

List of Subjects in 32 CFR Part 806b

Privacy.

Accordingly, 32 CFR 806b is to be amended to read as follows:

PART 806B—PRIVACY ACT PROGRAM

1. The authority citation for 32 CFR part 806b continues to read as follows:

Authority: Pub. L. 93-579, 88 Stat. 1896 (5 U.S.C. 552a).

Appendix D [Amended]

2. In part 806b, paragraph (f)(19) of Appendix D is removed and reserved as follows:

Appendix D to Part 806b—General and Specific Exemptions

* * * * *

(f)(19) [Reserved]

* * * * *

Dated: August 4, 2005.
Jeannette Owings-Ballard,
OSD Federal Register Liaison Officer, Department of Defense.

[FR Doc. 05-15787 Filed 8-9-05; 8:45 am]

BILLING CODE 5001-06-P